DEPARTMENT OF TRANSPORTATION

Federal Aviation Administration

14 CFR Part 39

[Docket No. FAA-2013-0642; Directorate Identifier 2011-SW-035-AD]

RIN 2120-AA64

Airworthiness Directives; Eurocopter Deutschland GmbH Helicopters

AGENCY: Federal Aviation Administration (FAA), DOT.

ACTION: Notice of proposed rulemaking (NPRM).

SUMMARY: We propose to adopt a new airworthiness directive (AD) for Eurocopter Deutschland GmbH (Eurocopter) Model MBB-BK 117 C-2 helicopters with a jettisonable sliding door (door) installed. This proposed AD would require inspecting the lock release assembly and the middle and upper lever locking bolts of each door, replacing any damaged parts with airworthy parts, and ensuring the door is correctly installed. This proposed AD is prompted by the uncommanded detaching of a door from an MBB-BK 117 C-2 fuselage. The proposed actions are intended to prevent the in-flight loss of the door, which could damage the helicopter and injure persons on the ground.

DATES: We must receive comments on this proposed AD by September 23, 2013.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this proposed AD, the foreign authority's AD, the economic evaluation, any comments received, and other information. The street address for the Docket Operations Office (telephone 800-647-5527) is in the ADDRESSES section. Comments will be available in the AD docket shortly after receipt.

For service information identified in this proposed AD, contact American Eurocopter Corporation, 2701 N. Forum Drive, Grand Prairie, TX 75052; telephone (972) 641-0000 or (800) 232-0323; fax (972) 641-3775; or at http://www.eurocopter.com/techpub. You may review the referenced service information at the FAA, Office of the Regional Counsel, Southwest Region, 2601 Meacham Blvd., Room 663, Fort Worth, Texas 76137.

FOR FURTHER INFORMATION CONTACT: Matt Fuller, Senior Aviation Safety Engineer, Safety Management Group, Rotorcraft Directorate, FAA, 2601 Meacham Blvd., Fort Worth, Texas 76137; telephone (817) 222-5110; email matthew.fuller@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

The European Aviation Safety Agency (EASA), which is the Technical Agent for the Member States of the European Union, has issued EASA AD No. 2011-0107, dated June 7, 2011, to correct an unsafe condition for Eurocopter Model MBB-BK 117 C-2 helicopters with jettisonable sliding doors installed. EASA states that in early 2010 it received a report that the door guides of the jettison mechanism on an MBB-BK 117 C-2 helicopter released uncommanded while opening the door, resulting in the door detaching from the fuselage. Although EASA initially did not consider this to be an unsafe condition, EASA has since determined that “this condition, if not detected and corrected, could result in cases of in-flight loss of the jettisonable door, possibly resulting in damage to, or loss of control of, the helicopter, or injury to persons on the ground.” As a result, EASA requires repetitive inspections for the correct installation of the doors, door guides, and release cables.

FAA's Determination

These helicopters have been approved by the aviation authority of Germany and are approved for operation in the United States. Pursuant to our bilateral agreement with Germany, EASA, its technical representative, has notified us of the unsafe condition described in its AD. We are proposing this AD because we evaluated all known relevant information and determined that an unsafe condition is likely to exist or develop on other products of the same type design.

Related Service Information

We reviewed Eurocopter Alert Service Bulletin MBB-BK117 C-2-52A-015, Revision 0, dated April 26, 2011 (ASB), for Model MBB-BK 117 C-2 helicopters with jettisonable sliding doors installed. The ASB calls for inspecting the lock release assembly for damage and correct installation and inspecting the middle lever and upper lever locking bolts for correct installation. The ASBs require the inspections to be conducted within 50 hours time-in-service (TIS) or two months, whichever occurs first, and thereafter after every door guide installation.

Proposed AD Requirements

This proposed AD would require within 50 hours TIS:

• Visually inspecting each door lock release assembly for any frayed cables, stripped threads on a screw joint, and any pitting on a door guide, release cable or associated hardware, as well as inspecting for correct installation.

• Replacing with airworthy parts any frayed cables, screw joints with stripped threads, or door guides, release cables and associated hardware that have pitting.

• Allowing for a minimum of one millimeter clearance at each end of the release cables.

• Installing the aft cover and aft inner handle.

• Inspecting each middle lever and upper lever locking bolt for correct installation.

• If the door cannot be correctly rigged, inspecting all hardware, guides, and door attachment points for misalignment or bent fittings. Replacing misaligned or bent parts with airworthy parts before operating the door in-flight and re-inspecting.

Differences Between This Proposed AD and the EASA AD

This proposed AD would require that the inspections be conducted within 50 hours TIS. The EASA AD requires that the inspections be conducted within 50 hours TIS or 60 days, whichever occurs first after the effective date of the EASA AD.

The EASA AD requires that you contact Eurocopter to determine corrective action, and this proposed AD would not.

The EASA AD requires a repetitive inspection, each time when the installation of the door guides for the jettisonable sliding doors is accomplished. This AD would not require this repetitive inspection because that is considered normal maintenance.

Costs of Compliance

We estimate that this proposed AD would affect 108 helicopters of U.S. Registry and that labor costs average $85 a work-hour.

• Visually inspecting the door's lock release assembly and the middle and upper levers would require 4 work-hours for a labor cost of $340 per helicopter. No parts would be needed, so that the total cost for the U.S. fleet would be $36,720.

• Visually inspecting all hardware, guides and door attachment points for misaligned or bent fittings would require 4 work-hours for a labor cost of $340 per helicopter. Parts may be needed but on an individual basis, so that the total cost for the U.S. fleet would be at least $36,720.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Eurocopter Deutschland GmbH Helicopters (Eurocopter): Docket No. FAA-2013-0642; Directorate Identifier 2011-SW-035-AD.

(a) Applicability

This AD applies to Model MBB-BK 117 C-2 helicopters with a jettisonable main cabin sliding door (door) installed, certificated in any category.

(b) Unsafe Condition

This AD defines the unsafe condition as the door detaching uncommanded from the fuselage. This condition could result in the in-flight loss of the door, which could damage the helicopter or cause injury or damage on the ground.

(c) Comments Due Date

We must receive comments by September 23, 2013.

(d) Compliance

You are responsible for performing each action required by this AD within the specified compliance time unless it has already been accomplished prior to that time.

(e) Required Actions

Within 50 hours time-in-service:

(1) Visually inspect each door lock release assembly for a frayed cable, a stripped thread on a screw joint, pitting on a door guide, release cable, or associated hardware, and for correct installation by following the Accomplishment Instructions, paragraph 3.B.1. (a) through (c), except (c)(1) and (c)(2), of Eurocopter Alert Service Bulletin MBB-BK117 C-2-52A-015, Revision 0, dated April 26, 2011 (ASB).

(i) Replace with an airworthy part any frayed cables, screw joints with stripped threads, or any door guides, release cables, and associated hardware with pitting. Allow for a minimum of one millimeter clearance at each end of the release cables.

(ii) Install the aft cover and aft inner handle.

(2) Inspect each middle lever and upper lever locking bolt for correct installation by following the Accomplishment Instructions, paragraphs 3.B.2 and 3.B.3, of the ASB, except that we do not require you to contact Eurocopter.

(3) If the door cannot be correctly rigged after performing the actions required by paragraph (e)(2), inspect all hardware, guides, and door attachment points for misalignment or bent fittings. Replace misaligned or bent parts with airworthy parts before you operate the door in-flight and re-inspect according to the requirements in paragraph (e)(2).

(f) Special Flight Permit

A one-time flight to a maintenance facility is permitted provided that the door is not opened in flight.

(g) Alternative Methods of Compliance (AMOCs)

(1) The Manager, Safety Management Group, FAA, may approve AMOCs for this AD. Send your proposal to: Matt Fuller, Senior Aviation Safety Engineer, Safety Management Group, Rotorcraft Directorate, FAA, 2601 Meacham Blvd., Fort Worth, Texas 76137; telephone (817) 222-5110; email matthew.fuller@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(h) Additional Information

The subject of this AD is addressed in European Aviation Safety Agency AD No. 2011-0107, dated June 7, 2011. The subject of this AD is addressed in European Aviation Safety Agency (EASA) AD No. 2013-0081, dated March 26, 2013. You may view the EASA AD in the AD docket on the Internet at http://www.regulations.gov.

(i) Subject

Joint Aircraft Service Component (JASC) Code: 5200, Doors.

Issued in Fort Worth, Texas, on July 15, 2013.
Kim Smith,
Manager, Rotorcraft Directorate, Aircraft Certification Service.

[FR Doc. 2013-17619 Filed 7-22-13; 8:45 am]

BILLING CODE 4910-13-P